DEPARTMENT OF EDUCATION

National Board for Education Sciences; Meeting

AGENCY: National Board for Education Sciences; ED.

ACTION: Notice of open meeting and partially closed session.

SUMMARY: This notice sets forth the schedule and proposed agenda of a forthcoming meeting of the National Board for Education Sciences. Notice of this meeting is required under Section 10(a)(2) of the Federal Advisory Committee Act. This document is intended to notify the general public of their opportunity to attend the open portion of the meeting. Individuals who will need accommodations for a disability in order to attend the meeting (i.e., interpreting services, assistive listening devices, materials in alternative format) should notify Sonia Chessen at (202) 219-2195 by September 8. We will attempt to meet requests after this date, but cannot guarantee availability of the requested accommodation. The meeting site is accessible to individuals with disabilities.

DATES: September 20 and 21, 2006.

Time: September 20, 2 p.m. to 5 p.m.; September 21, 9 a.m. to 2 p.m., September 21, 9 a.m. to 10:30 a.m. Closed Session.

Location: Washington Court Hotel, 525 New Jersey Ave., NW., Washington, DC 20001, (room to be announced).

FOR FURTHER INFORMATION CONTACT: Sonia Chessen, Executive Director, National Board for Education Sciences, Washington, DC 20208. Tel: (202) 219-2195; fax: (202) 219-1466; e-mail: Sonia Chessen@ed.gov.

SUPPLEMENTARY INFORMATION: The National Board for Education Sciences is authorized by Section 116 of the Education Sciences Reform Act of 2002. The Board advises the Director of the Institute of Education Sciences (IES) on the establishment of activities to be supported by the Institute, on the funding of applications for grants, contracts, and cooperative agreements for research after the completion of peer review, and reviews and evaluates the work of the Institute. On September 21, the Board will review the day's agenda and hear from the Director an update on the work of the Institute of Education Sciences (IES) as well as a plan to implement the IES research priorities. At 4 p.m. there will be a presentation, “Research Evidence Needed by Education Policy Makers,” by Kati Haycock, Director of the Education Trust.

On September 21, after a review of the prior day's activities, there will be a closed session from 9 a.m. to 10:30 a.m. to review a statement of work for a Congressionally mandated final report evaluating the effectiveness of IES in meeting its goals and objectives. Because public discussion of this action would jeopardize a fair and open competition and potentially frustrate the implementation of a proposed agency activity, this portion of the meeting will be closed to the public under exemption 9 B of section 552b(c) of Title 5 U.S.C.

The meeting will reopen at 10:45 a.m. for a discussion of policy proposals presented by the Board's Subcommittee on the National Center for Education Evaluation and a report from the Center Director. Reports from the Centers on Educational Research and Special Education Research will follow. The meeting will adjourn at 2 p.m.

A final agenda will be available from Sonia Chessen on September 8, 2006.

A summary of the activities at the closed session and related matters which are informative to the public consistent with the policy of Title 5 U.S.C. 552b(c) will be available to the public. Records will be kept of all Board proceedings and will be available for public inspection at the office of the National Board for Education Sciences, Room 627H, 555 New Jersey Ave. NW., Washington, DC 20208 from 9 a.m. to 5 p.m. EST.

Dated: August 31, 2006.
Sue Betka,
Deputy Director for Administration and Policy, Institute of Education Sciences.

[FR Doc. 06-7449 Filed 9-5-06; 8:45 am]

BILLING CODE 4000-01-M